DEPARTMENT OF THE INTERIOR

Fish and Wildlife Service

National Park Service

[FWS-R6-R-2015-N091; FF06R06000-FXRS12610600000-167]

Niobrara Confluence and Ponca Bluffs Conservation Areas, NE and SD; Withdrawal of Draft Environmental Impact Statement and Land Protection Plan

AGENCY: Fish and Wildlife Service, National Park Service, Interior.

ACTION: Notice of withdrawal.

SUMMARY: This notice advises the public that we, the U.S. Fish and Wildlife Service (FWS) and the National Park Service (NPS), as lead agencies, are withdrawing our proposal to establish the Niobrara Confluence and Ponca Bluffs Conservation Areas in Nebraska and South Dakota.

DATES: This action will become effective with this notice.

FOR FURTHER INFORMATION CONTACT: Toni Griffin, Acting Chief of Refuge Planning, U.S. Fish and Wildlife Service, P.O. Box 25486, DFC, Denver, CO 80225. Telephone (303) 236-4378.

SUPPLEMENTARY INFORMATION: On February 15, 2012, the FWS and the NPS, as lead agencies, published a notice of intent (77 FR 8892) to prepare an environmental impact statement (EIS) for the proposed Niobrara Confluence Conservation Area and Ponca Bluffs Conservation Area in Nebraska and South Dakota. On April 8, 2013, a draft EIS and land protection plan (LPP) were made available for public review and comment (78 FR 20942). In these documents, we described alternatives, including our proposed action, for implementing conservation actions along the Missouri River and its tributaries.

However, after considering the public comments received and analyzing other priorities for each agency, the FWS and NPS are hereby withdrawing the DEIS and LPP from further consideration. The FWS and NPS will continue to support locally driven conservation efforts along the Missouri River in northeast Nebraska and southeast South Dakota. The FWS and NPS will continue to work with interested landowners on other conservation options in the area.

Authority: We provide this notice in accordance with the requirements of NEPA as amended (42 U.S.C. 4321 et seq.), its implementing regulations set forth by the Council on Environmental Quality (40 CFR 1500 et seq.), the Department of Interior's NEPA implementing regulations (43 CFR part 46) and other appropriate Federal laws, regulations and administrative materials.

Dated: May 6, 2016.
Matt Hogan,
Acting Regional Director, Mountain-Prairie Region, U.S. Fish and Wildlife Service.
Dated: May 16, 2016.
Cameron H. Sholly
Regional Director, Midwest Region, National Park Service.

[FR Doc. 2016-12799 Filed 5-31-16; 8:45 am]

BILLING CODE 4333-15-P